DEPARTMENT OF ENERGY

Federal Energy Regulatory Commission

Notice of Institution of Proceeding and Refund Effective Date

December 3, 2007.

Ameren Services Company Northern Indiana Public Service Company v. Midwest Independent Transmission System Operator, Inc | Docket No. EL07-86-000.
Great Lakes Utilities Indiana Municipal Power Agency Missouri Joint Municipal Electric Utility Commission Prairie Power, Inc Southern Minnesota Municipal Power Agency Wisconsin Public Power Inc. v. Midwest Independent Transmission System Operator, Inc | Docket No. EL07-88-000.
Wabash Valley Power Association, Inc. v. Midwest Independent Transmission System Operator, Inc. | Docket No. EL07-92-000.

On November 28, 2007, the Commission issued an order that instituted a proceeding in the above-referenced dockets, pursuant to Section 206 of the Federal Power Act (FPA) 16 U.S.C. 824e, to review evidence and to establish a just and reasonable Revenue Sufficiency Guarantee cost allocation methodology for market participants under the Midwest Independent Transmission System Operator, Inc.'s Open Access Transmission and Energy Markets Tariff. Ameren Service Company, et al., 121 FERC ¶ 61,205 (2007).

The refund effective date in the above-docketed proceeding, established pursuant to section 206(b) of the FPA, is August 10, 2007.

Kimberly D. Bose,
Secretary.

[FR Doc. E7-23767 Filed 12-6-07; 8:45 am]

BILLING CODE 6717-01-P